ENVIRONMENTAL PROTECTION AGENCY

[FRL-9901-48-OGC]

Proposed Settlement Agreement

AGENCY: Environmental Protection Agency (EPA).

ACTION: Notice of proposed settlement agreement; request for public comment.

SUMMARY: In accordance with section 113(g) of the Clean Air Act, as amended (“Act”), notice is hereby given of a proposed settlement agreement to address a lawsuit filed by the American Forest & Paper Association, Inc. and American Wood Council (“Petitioners”) in the United States Court of Appeals for the District of Columbia: American Forest and Paper Association, Inc. and American Wood Council v. EPA, No. 12-1452 (D.C. Cir.). Petitioners filed a petition for review challenging EPA's final rule entitled “Mandatory Reporting of Greenhouse Gases; Final Rule,” (Oct. 30, 2009) (“GHG Reporting Rule”). Under the terms of the proposed settlement agreement, Petitioners would dismiss their claims if, at the conclusion of a rulemaking process that has included notice and an opportunity for public comment, EPA promulgates in final form an amendment to the GHG Reporting Rule that includes changes that are substantially the same substance as set forth in Attachment A to the proposed settlement agreement. Nothing in the proposed settlement agreement limits or modifies EPA's discretion under the Clean Air Act.

DATES: Written comments on the proposed settlement agreement must be received by October 28, 2013.

ADDRESSES: Submit your comments, identified by Docket ID number EPA-HQ-OGC-2013-0181, online at www.regulations.gov (EPA's preferred method); by email to oei.docket@epa.gov; by mail to EPA Docket Center, Environmental Protection Agency, Mailcode: 2822T, 1200 Pennsylvania Ave. NW., Washington, DC 20460-0001; or by hand delivery or courier to EPA Docket Center, EPA West, Room 3334, 1301 Constitution Ave. NW., Washington, DC, between 8:30 a.m. and 4:30 p.m. Monday through Friday, excluding legal holidays. Comments on a disk or CD-ROM should be formatted in Word or ASCII file, avoiding the use of special characters and any form of encryption, and may be mailed to the mailing address above.

FOR FURTHER INFORMATION CONTACT: Ragan Tate, Air and Radiation Law Office (2344A), Office of General Counsel, U.S. Environmental Protection Agency, 1200 Pennsylvania Ave. NW., Washington, DC 20460; telephone: (202) 564-7382; fax number (202) 564-5603; email address: tate.ragan@epa.gov.

SUPPLEMENTARY INFORMATION:

I. Additional Information About the Proposed Settlement Agreement

The proposed settlement agreement would resolve a lawsuit filed by the American Forest & Paper Association, Inc. and American Wood Council seeking to compel the Agency to promulgate a proposed rule on the issue of whether the GHG Reporting Rule should be amended by the inclusion of proposed amendments of the same substance as set forth in Attachment A to the proposed settlement agreement. Under the proposed settlement agreement, Petitioners would dismiss their claims if EPA promulgates in final form an amendment to the GHG Reporting Rule that includes changes that are substantially the same substance as set forth in Attachment A to the proposed settlement agreement. The proposed settlement agreement further states that in the event not all such changes are made that are substantially the same substance as set forth in Attachment A to the proposed settlement agreement, the Petitioners would file a stipulation of dismissal for the issues that correspond to such changes that were made, and for those issues that were not resolved, with the creation of a new docket for those issues that were not resolved.

Nothing in the proposed settlement agreement limits or modifies EPA's discretion under the Clean Air Act in either the related notice and comment rulemaking process or otherwise. The EPA reserves the discretion to promulgate a final rule relating to any amendment to or revision of the GHG Reporting Rule and by this proposed settlement agreement has not obligated itself to issue any final rule which includes the proposed changes contained in Attachment A to the proposed settlement agreement.

For a period of thirty (30) days following the date of publication of this notice, the Agency will accept written comments relating to the proposed settlement agreement from persons who were not named as parties or intervenors to the litigation in question. EPA or the Department of Justice may withdraw or withhold consent to the proposed settlement agreement if the comments disclose facts or considerations that indicate that such consent is inappropriate, improper, inadequate, or inconsistent with the requirements of the Act. Unless EPA or the Department of Justice determines that consent to this settlement agreement should be withdrawn, the terms of the agreement will be affirmed.

II. Additional Information About Commenting on the Proposed Settlement Agreement

A. How can I get a copy of the settlement agreement?

The official public docket for this action (identified by Docket ID No. EPA-HQ-OGC-2013-0181) contains a copy of the proposed settlement agreement. The official public docket is available for public viewing at the Office of Environmental Information (OEI) Docket in the EPA Docket Center, EPA West, Room 3334, 1301 Constitution Ave. NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through www.regulations.gov. You may use the www.regulations.gov to submit or view public comments, access the index listing of the contents of the official public docket, and to access those documents in the public docket that are available electronically. Once in the system, key in the appropriate docket identification number then select “search”.

It is important to note that EPA's policy is that public comments, whether submitted electronically or in paper, will be made available for public viewing online at www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

B. How and to whom do I submit comments?

You may submit comments as provided in the ADDRESSES section. Please ensure that your comments are submitted within the specified comment period. Comments received after the close of the comment period will be marked “late.” EPA is not required to consider these late comments.

If you submit an electronic comment, EPA recommends that you include your name, mailing address, and an email address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the www.regulations.gov Web site to submit comments to EPA electronically is EPA's preferred method for receiving comments. The electronic public docket system is an “anonymous access” system, which means EPA will not know your identity, email address, or other contact information unless you provide it in the body of your comment. In contrast to EPA's electronic public docket, EPA's electronic mail (email) system is not an “anonymous access” system. If you send an email comment directly to the Docket without going through www.regulations.gov, your email address is automatically captured and included as part of the comment that is placed in the official public docket, and made available in EPA's electronic public docket.

Dated: September 20, 2013.
Lorie J. Schmidt,
Associate General Counsel.

[FR Doc. 2013-23690 Filed 9-26-13; 8:45 am]

BILLING CODE 6560-50-P